DEPARTMENT OF THE INTERIOR

Office of the Secretary

Invasive Species Advisory Committee

AGENCY: Office of the Secretary, Interior.

ACTION: Notice of Public Meetings of the Invasive Species Advisory Committee.

SUMMARY: Pursuant to the provisions of the Federal Advisory Committee Act, notice is hereby given of meetings of the Invasive Species Advisory Committee. The purpose of the Advisory Committee is to provide advice to the National Invasive Species Council, as authorized by Executive Order 13112, on a broad array of issues related to preventing the introduction of invasive species and providing for their control and minimizing the economic, ecological, and human health impacts that invasive species cause. The Council is Co-chaired by the Secretary of the Interior, the Secretary of Agriculture, and the Secretary of Commerce. The duty of the Council is to provide national leadership regarding invasive species issues. The purpose of a meeting on June 24-25, 2003 is to convene the full Advisory Committee (appointed by Secretary Norton on April 1, 2002); and to discuss implementation of action items outlined in the National Invasive Species Management Plan, which was finalized on January 18, 2001.

DATES: Meeting of Invasive Species Advisory Committee: 9 a.m., Tuesday, June 24, 2003; and 8:30 a.m., Wednesday, June 25, 2003.

ADDRESSES: Omni Ambassador East Hotel, 1301 North State Parkway, Chicago, IL 60610. Meetings on both days will be held in the Gold Coast / Astor Rooms.

FOR FURTHER INFORMATION CONTACT: Kelsey Passé, National Invasive Species Council Program Analyst; Phone: (202) 513-7243; Fax: (202) 371-1751.

Dated: April 30, 2003.
Christopher P. Dionigi,
Assistant Director for Domestic Policy, Science and Cooperation, National Invasive Species Council.

[FR Doc. 03-11136 Filed 5-5-03; 8:45 am]

BILLING CODE 4310-RK-P